DEPARTMENT OF TRANSPORTATION

Federal Railroad Administration

[Docket No. FRA-2009-0045]

Capital Assistance for High Speed Rail Corridors and Intercity Passenger Rail Service: Public Input on Recovery Act Guidance to Applicants

AGENCY: Federal Railroad Administration (FRA), Department of Transportation (DOT).

ACTION: Notice of public docket.

SUMMARY: The American Recovery and Reinvestment Act of 2009 (ARRA) became law on February 17, 2009. ARRA provides $8 billion to the Secretary of Transportation (Secretary) for grants for capital assistance for high speed rail corridors and intercity passenger rail service. In April 2009, in accordance with ARRA, the Secretary submitted a strategic plan Vision for High Speed Rail in America (http://www.fra.dot.gov/us/content/31) that describes how the Secretary will use these funds to improve and deploy high speed passenger rail systems to the House and Senate Committees on Appropriations. ARRA also requires FRA to issue on or before June 17, 2009 interim guidance regarding grant terms, conditions, and procedures until final regulations are issued. This interim guidance will address the high speed rail corridor program, capital assistance for intercity passenger rail service grants, and congestion grants. FRA seeks input from the public on issues that should be addressed in the interim guidance and specific recommendations on the criteria to be used in evaluating grant applications.

DATES: Comments must be received by June 5, 2009. FRA will consider late filed comments to the extent practicable.

ADDRESSES: You may submit comments by one of the following methods.

• Federal e-Rulemaking Portal: http://www.regulations.gov. Follow the online instructions for submitting comments.

• U.S. Post or Express Mail: U.S. Department of Transportation, Docket Operations, West Building Ground Floor, Room W12-140, 1200 New Jersey Avenue, SE., Washington, DC 20590.

• Hand Delivery: The West Building of the U.S. Department of Transportation, 1200 New Jersey Avenue, SE., Washington, DC 20590, between 9 a.m. and 5 p.m., Monday through Friday, except Federal holidays.

Instructions: You must include the agency name (Federal Railroad Administration) and the Docket number (FRA-2009-0045) at the beginning of your comment. You should include two copies of your comment if you submit it by mail. If you wish to receive confirmation that FRA received your comment, you must include a self-addressed stamped postcard. Note that FRA will post all comments that it receives, including any personal information provided therein, without change, to http://www.regulations.gov.

Due to security procedures in effect since October 2001 regarding mail deliveries, mail received through the U.S. Postal Service may be subject to delays. A party that submits a comment responsive to this notice should consider using an express mail firm to ensure the prompt filing of any submissions not filed electronically or by hand.

FOR FURTHER INFORMATION CONTACT: Robert Kulat, Public Affairs Specialist, Federal Railroad Administration, 1200 New Jersey Avenue, SE., West Building-3rd Floor, Washington, DC 20590; Telephone: (202) 493-6024.

SUPPLEMENTARY INFORMATION: President Barack Obama and Secretary Ray LaHood have voiced a commitment to further develop and refine a world-class network of high-speed passenger rail corridors and intercity passenger rail service. The President proposes to jump-start the process with the $8 billion down payment provided in ARRA. ARRA directs funds toward projects that will aid in near-term economic recovery, while laying a foundation for longer-term economic stability and competitiveness. These first steps emphasize strategic investments that will yield tangible benefits to intercity rail infrastructure, equipment, performance, and intermodal connections over the next several years, while also creating a “pipeline” of projects to enable future corridor development.

The forthcoming guidance will describe in more detail the application prerequisites for each program along with the specific criteria that will be used to evaluate applications. The scope and specificity of each project will vary, but all applications will most likely need to address planning and project development, stakeholder agreements, financial plans, and risk management plans.

As President Obama outlined in his March 20, 2009, memorandum, Ensuring Responsible Spending of Recovery Act Funds, implementing agencies are to:

Develop transparent, merit-based selection criteria that will guide their available discretion in committing, obligating, or expending funds under the Recovery Act.

FRA is committed to carrying out this requirement through clear selection criteria and evaluation procedures. In preparing the selection criteria and evaluation procedures, FRA seeks structured input from stakeholders and the public on the criteria to be used in evaluating grant applications in order to achieve a new national network of high speed intercity passenger rail corridors.

Issued in Washington, DC, on May 12, 2009.
Joseph C. Szabo,
Administrator.

[FR Doc. E9-11597 Filed 5-18-09; 8:45 am]

BILLING CODE 4910-06-P